DEPARTMENT OF HEALTH AND HUMAN SERVICES

Administration for Children and Families

Notice of Public Comment on the Proposed Adoption of ANA Program Policies and Procedures

AGENCY: Administration for Native Americans (ANA), HHS.

ACTION: Notice of public comment.

SUMMARY: Pursuant to section 814 of the Native American Programs Act of 1974 (the Act) as amended by 42 U.S.C. 2992b-1, ANA herein describes its proposed interpretive rules and general statements of policy and rules of agency procedure or practice in relation to the Social and Economic Development Strategies (SEDS) Special Initiative Program Announcement: Improving the Well-Being of Children/Native American Healthy Marriage Initiative (NAHMI). Under the Act, ANA is required to provide members of the public an opportunity to comment on proposed changes in interpretive rules and general statements of policy and rules of agency procedure or practice and give notice of the final adoption of such changes at least thirty (30) days before the changes become effective. This Notice also provides additional information about ANA's plan for administering NAHMI.

DATES: The deadline for receipt of comments is thirty (30) days from the date of publication in the Federal Register.

ADDRESSES: Comments in response to this Notice should be addressed to Sheila K. Cooper, Director of Program Operations, Administration for Native Americans, 370 L'Enfant Promenade, SW., Mail Stop: Aerospace 8-West, Washington, DC 20447. Delays may occur in mail delivery to Federal offices; therefore, a copy of comments should be faxed to (202) 690-7441. Comments will be available for inspection by members of the public at the Administration for Native Americans, Aerospace Center, 901 D Street, SW., Washington, DC 20447.

FOR FURTHER INFORMATION CONTACT: Sheila K. Cooper, Director of Program Operations, toll-free at (877) 922-9262.

SUPPLEMENTARY INFORMATION: Section 814 of the Native American Programs Act of 1974, as amended, requires ANA to provide notice of its proposed interpretive rules and general statements of policy and rules of agency procedure or practice. These proposed clarifications, modifications, and new text will appear in the ANA FY 2006 Special Initiative Program Announcement. This Notice serves to fulfill this requirement.

Additional Information

SEDS Special Initiative: Improving the Well-Being of Children/Native American Healthy Marriage Initiative (NAHMI)

ANA has the discretionary authority to make awards in support of special initiatives, including but not limited to, healthy marriage and relationships, fatherhood, positive youth development, and emergency support to Native communities affected by manmade or natural disasters. In FY 2005, ANA first announced the availability of funding for a special initiative focusing on Native American Healthy Marriage projects. This Notice provides additional specific parameters for projects funded under this initiative in FY 2006.

(i) Project periods will be for five years only. Project periods consist of five, twelve-month budget periods.

(ii) The annual budget threshold cannot exceed $200,000 per budget period.

(iii) A request for financial assistance for any of the special initiatives will require a non-Federal share match requirement (42 U.S.C. 2991b(b)).

(iv) ANA program announcements are category- and program-specific. Applicants must submit projects for the Native American Healthy Marriage Initiative (NAHMI) under this special program area. Applicants must clearly indicate this specific competitive area when applying for this competition.

(v) ANA will consider only the following list of Program Areas of Interest:

• Projects that provide public advertising campaigns in Native American communities on the value of healthy marriage as a way to improve relationships and marriages and strengthen family relationships;

• Projects that provide youth education in high schools, youth organizations, and community centers on the value of healthy marriages and healthy relationship skills, including conflict resolution, communication, and commitment. Projects should use a pre-marital education curriculum focused on youth;

• Projects that offer marriage education, marriage skills, and relationship skills, which may include communication skills, conflict resolution, commitment, and parenting skills to expectant couples, both married and unmarried, as well as new parents, both married and unmarried;

• Projects that offer pre-marital education and marriage skills training for couples, individuals, or engaged couples interested in marriage. Training would include a marriage education course and couples would learn the knowledge and skills (communication, conflict resolution, and commitment) necessary to choose marriage for themselves if they so desire;

• Projects that provide marriage enhancement/enrichment and marriage skills training programs for married couples to improve or strengthen their relationship through a certified marriage education course. The course should include lessons in communication, conflict resolution, and commitment;

• Projects that use married couples as role models and mentors in at-risk communities to teach healthy relationship and marriage skills. Projects should include a marriage education course that emphasizes communication, commitment, and conflict resolution; weekend retreats; and mentor groups; and

• Projects that conduct research on the benefits of healthy marriages and healthy marriage education.

The primary focus of projects should be on healthy marriage education and enrichment. Other activities such as abstinence education, foster parenting, and fatherhood accountability can be included in the project but cannot be the primary objective.

Dated: January 30, 2006.
Kimberly Romine,
Deputy Commissioner, Administration for Native Americans.

[FR Doc. 06-1012 Filed 2-2-06; 8:45 am]

BILLING CODE 4184-01-M